DEPARTMENT OF ENERGY

Federal Energy Regulatory Commission

[Docket No. IC00-505-001, FERC-505]

Information Collection Submitted for Review and Request for Comments

March 10, 2000.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. No. 104-13). Any interested person may file comments on the collection of information directly with OMB and should address a copy of those comments to the Commission as explained below. The Commission did not receive any comments in response to an earlier Federal Register notice of November 16, 1999 (64 FR 62183).

DATES: Comments regarding this collection of information are best assured of having their full effect if received on or before April 17, 2000.

ADDRESSES: Address comments to Office of Management and Budget, Office of Information and Regulatory Affairs, Attention: Federal Energy Regulatory Commission, Desk Officer, 725 17th Street, N.W. Washington, D.C. 20503. A copy of the comments should also be sent to Federal Energy Regulatory Commission, Office of the Chief Information Officer, Attention: Mr. Michael Miller, 888 First Street N.E., Washington, D.C. 20426.

FOR FURTHER INFORMATION CONTACT: Michael Miller may be reached by telephone at (202) 208-1415, by fax at (202) 273-0873, and by e-mail at michael.miller@ferc.fed.us.

SUPPLEMENTARY INFORMATION:

Description

The energy information collection submitted to OMB for review contains:

1. Collection of Information: FERC-505 “Application for License/Relicense for Water Projects 5MW or Less Capacity.”

2. Sponsor: Federal Energy Regulatory Commission.

3. Control No.: OMB No. 1902-0115. The Commission is now requesting that OMB approve a three-year extension of the current expiration date, with no changes to the existing collection. This is a mandatory information collection requirement.

4. Necessity of Collection of Information: Submission of the information is necessary to fulfill the requirements of Sections 9 and 10(a) of the Federal Power Act (FPA) in order for the Commission to make a required finding that the proposal for a hydropower project is economically feasible, technically, and environmentally sound, and is best adapted to the comprehensive plan of development of the water resources of the region. Under Section 405(c) of the public Utilities Regulatory policies Act of 1978, the Commission may in its discretion (by rule or order) grant an exemption in whole or in part from the requirements of Part 1 of the FPA to small hydropower projects having a proposed installed capacity of 5,000 kilowatts or less. The information collected in the form of a written application for a license and used by commission staff to determine the broad impact of a hydropower license application.

Respondent Description: The respondent universe currently comprises on average, 12 applicants subject to the Commission's jurisdiction.

6. Estimated Burden: 4,512 total burden hours, 12 respondents, 1 response annually, 376 hours per response (average).

7. Estimated Cost Burden to Respondents: 4,512 hours ÷ 2,080 hours per year × $111,545 per year = $241,966, average cost per respondent = $20,168.

Statutory Authority: Sections 4(e), 9, 10, 14 and 15 of the Federal Power Act (FPA), 16 U.S.C. 791A et seq.

David P. Boergers,
Secretary.

[FR Doc. 00-6448 Filed 3-15-00; 8:45 am]

BILLING CODE 6717-01-M